DEPARTMENT OF AGRICULTURE

Submission for OMB Review; Comment Request

May 25, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: 7 CFR 1744-E, Borrower Investments—Telecommunications Loan Program.

OMB Control Number: 0572-0098.

Summary of Collection: The Rural Economic Development Act of 1990, Title XXIII of the Farm Bill, Public Law 101-624, authorized qualified Rural Utilities Service (RUS) borrowers to make investments in rural development projects without the prior approval of the RUS Administrator, provided, however that such investments do not cause the borrower to exceed its allowable qualified investment level as determined in accordance with the procedures set forth in 7 CFR part 1744, subpart E. RUS requests that the borrower submit (1) a description of the rural development project and type of investment; (2) a reasonable estimate of the amount the borrower is committed to provide to the project including future expenditures; and (3) a pro forma balance sheet and cash flow statement for the period covering the borrower's future commitments to determine that the “excess” or proposed “excess” investments will not impair the borrower's ability to repay the loan or cause financial hardship.

Need and Use of the Information: RUS will collect information to consider whether or not to approve a borrower's request to make an investment in a rural development project when such an investment would cause the borrower to exceed its allowable investment level. If this information was not collected, RUS could not thoroughly assess the economic impact of such an investment.

Description of Respondents: Business or other for-profit; Not-for-profit institutions.

Number of Respondents: 25.

Frequency of Responses: Reporting: On occasion.

Total Burden Hours: 238.

Rural Utilities Service

Title: 7 CFR 1730, Review Rating Summary.

OMB Control Number: 0572-0025.

Summary of Collection: The Rural Utilities Service (RUS) manages loan programs in accordance with the Rural Electrification Act (RE Act) of 1936, 7 U.S.C. 901 et seq., as amended. An important part of safeguarding loan security is to see that RUS financed facilities are being responsibly used, adequately operated, and adequately maintained. Future needs have to be anticipated to ensure that facilities will continue to produce revenue and that loans will be repaid as required by the RUS mortgage. Regular periodic operations and maintenance (O&M) review can identify and correct inadequate O&M practices before they cause extensive harm to the system. Inadequate O&M practices can result in public safety hazards, increased power outages for consumers, added expense for emergency maintenance, and premature aging of the borrower's systems, which could increase the loan security risk to RUS.

Need and Use of the Information: RUS will collect information using form 300 Review Rate Summary to identify items that may be in need of additional attention; to plan corrective actions when needed; to budget funds and manpower for needed work; and to initiate ongoing programs as necessary to avoid or minimize the need for “catch-up” programs.

Description of Respondents: Not-for-profit institutions; Business or other for-profit.

Number of Respondents: 229.

Frequency of Responses: Reporting: On occasion.

Total Burden Hours: 916.

Charlene Parker,
Departmental Information Collection Clearance Officer.

[FR Doc. E6-8372 Filed 5-30-06; 8:45 am]

BILLING CODE 3410-15-P